DEPARTMENT OF TRANSPORTATION

Coast Guard

[USCG-2000-7514]

National Preparedness for Response Exercise Program (PREP)

AGENCY: Coast Guard, DOT.

ACTION: Notice of availability and request for comments.

SUMMARY: The four Federal agencies that comprise the National Scheduling Coordination Committee (NSCC) (U.S. Coast Guard, Environmental Protection Agency, Minerals Management Service, and Office of Pipeline Safety) hosted a Preparedness for Response Exercise Program (PREP) Workshop on August 29, 2000, in Washington, DC. Interested parties were encouraged to submit comments either at the workshop or to the docket. The NSCC has prepared responses to these comments and is drafting changes to the PREP Guidelines as a result of the workshop. Interested parties are invited to comment on these documents.

DATES: Comments and related material must reach the Docket Management Facility on or before September 1, 2001.

ADDRESSES: To make sure that your comments and related material are not entered more than once in the docket, please submit them by only one of the following methods:

(1) By mail to the Docket Management Facility, (USCG-2000-7514), U.S. Department of Transportation, room PL-401, 400 Seventh Street SW., Washington, DC 20590-0001.

(2) By hand delivery to room PL-401 on the Plaza level of the Nassif Building, 400 Seventh SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and documents, as indicated in this notice, will become part of this docket and will be available for inspection or copying at room PL-401 on the Plaza Level of the Nassif Building at the same address between 9 a.m. and 5 p.m., Monday through Friday, except Federal holidays. You may electronically access the public docket for this notice on the Internet at http://dms.dot.gov.

FOR FURTHER INFORMATION: If you have questions on this notice and general information regarding the PREP program, contact Robert Pond, Office of Response, Plan and Preparedness Division (G-MOR-2), U.S. Coast Guard Headquarters, 2100, 2nd St. SW., Washington, DC 20593-0001, telephone 202-267-6603, fax 202-267-4065 or e-mail rpond@comdt.uscg.mil. If you have questions on viewing, or submitting material to the docket, contact Dorothy Beard, Chief, Dockets, Department of Transportation, telephone 202-366-5149.

Request for Comments

We encourage you to participate by submitting comments and related material. If you do so, please include your name and address, identify the docket number (USCG-2000-7514), indicate the specific section of the document to which each comment applies, and give the reason for each comment. You may submit your comments and materials by mail or hand delivery, submit them in an unbound format, no larger than 8½ by 11 inches, suitable for copying and electronic filing. If you submit them by mail and would like to know they reached the facility, please enclose a stamped, self-addressed postcard or envelope. We will consider all comments and material received during the comment period.

Background

The Coast Guard, the Environmental Protection Agency (EPA), the Research and Special Programs Administration (RSPA), and the Minerals Management Service (MMS), in concert with the states, the oil industry and concerned citizens, developed the preparedness for Response Exercise Program (PREP). PREP was developed to establish a workable oil pollution response exercise program, which meets the intent of section 4204(a) of the Oil Pollution Act of 1990. PREP provides a mechanism for compliance with the exercise requirements, while being economically feasible for the government and oil industry to adopt and sustain. Since the inception of PREP, public meetings have been held periodically to assess the continuing vitality of the program.

Availability of Documents

The NSCC has prepared responses to comments received in association with the August 2000 PREP Workshop held in Washington, DC. These responses are available for review at the Docket Management Facility at http://dms.dot.gov (USCG-2000-7514). These responses and additional information regarding PREP are also available at the following web sites:

USCG:http://www.uscg.mil/hq/g-m/nmc/response/# PREP

MMS:http://www.mms.gov

EPA:http://www.epa.gov/oilspill/index.htm

OPS:http://ops.dot.gov/

As noted in some of the responses, the NSCC is currently working on revising the existing 1994 PREP Guidelines. Proposed changes to the Guidelines will be available at the Docket Management Facility Web Site (USCG-2000-7514), as well as, the above agency Web Sites by June 1, 2001. NSCC will consider whether to schedule a PREP Workshop to discuss these proposed changes. Any comments on the proposed changes must be submitted to the Docket Management Facility no later than September 1, 2001.

Dated: April 4, 2001.
Howard L. Hime,
Acting Director of Standards.

[FR Doc. 01-9182 Filed 4-12-01; 8:45 am]

BILLING CODE 4910-15-P